DEPARTMENT OF JUSTICE

Office of Justice Programs

28 CFR Part 25

[Docket No. OJP (BJA) 1577]

RIN 1121-AA79

National Motor Vehicle Title Information System (NMVTIS): Technical Corrections

AGENCY: Office of Justice Programs, Justice.

ACTION: Direct final rule.

SUMMARY: The Office of Justice Programs (OJP) is promulgating this direct final rule for its National Motor Vehicle Title Information System Program (NMVTIS) in order to make two technical corrections to the NMVTIS regulations.

DATES: Effective date: This direct final rule is effective June 27, 2012 without further action, unless adverse comments are received by the Bureau of Justice Assistance (BJA) by May 29, 2012. If adverse comment is received, BJA will publish a timely withdrawal of the rule in the Federal Register.

ADDRESSES: Please address all comments regarding this rule by U.S. mail, to: Todd Brighton, Bureau of Justice Assistance, 810 7th Street NW., Washington, DC 20531; or by telefacsimile to (202) 354-4135. To ensure proper handling, please reference OJP Docket No. 1577 on your correspondence. Comments may also be sent electronically through http://regulations.gov using the electronic comment form provided on that site. An electronic copy of this document is also available at the http://regulations.gov Web site. BJA will accept attachments to electronic comments in Microsoft Word, WordPerfect, or Adobe PDF formats only. All electronic comments sent directly to BJA must be received by midnight Eastern Time on the day that the comment period closes. The public's ability to comment through http://regulations.gov terminates at midnight Eastern Time on the day that the comment period closes. All comments received via U.S. mail, or an express mail carrier, must be postmarked on or before the day that the comment period closes.

FOR FURTHER INFORMATION CONTACT: Todd Brighton, BJA, at 202-616-3879.

SUPPLEMENTARY INFORMATION:

I. Posting of Public Comments

Please note that all comments received are considered part of the public record and made available for public inspection online at http://www.regulations.gov. Information made available for public inspection includes personal identifying information (such as your name, address, etc.) voluntarily submitted by the commenter.

If you wish to submit personal identifying information (such as your name, address, etc.) as part of your comment, but do not wish it to be posted online, you must include the phrase “PERSONAL IDENTIFYING INFORMATION” in the first paragraph of your comment. You must also locate all the personal identifying information that you do not want posted online in the first paragraph of your comment and identify what information you want the agency to redact. Personal identifying information identified and located as set forth above will be placed in the agency's public docket file, but not posted online.

If you wish to submit confidential business information as part of your comment but do not wish it to be posted online, you must include the phrase “CONFIDENTIAL BUSINESS INFORMATION” in the first paragraph of your comment. You must also prominently identify confidential business information to be redacted within the comment. If a comment has so much confidential business information that it cannot be effectively redacted, the agency may choose not to post that comment (or to only partially post that comment) on http://www.regulations.gov. Confidential business information identified and located as set forth above will not be placed in the public docket file, nor will it be posted online.

If you wish to inspect the agency's public docket file in person by appointment, please see the FOR FURTHER INFORMATION CONTACT paragraph.

II. Background

The National Motor Vehicle Title Information System was established pursuant to 49 U.S.C. 30501-30505. The purposes of the System include reducing fraud in the registering and titling of automobiles and making information available that would restrict the market for stolen automobiles. For further information, see the NMVTIS Web site at http://www.vehiclehistory.gov.

BJA is promulgating this direct-final rule to make two technical corrections in the regulations that were promulgated in 2009. 74 FR 5740 (Jan. 30, 2009). Those regulations, because of a typographical error, provided at 28 CFR 25.52 that, for purposes of the program, the term Motor vehicle had “the same meaning given that term in 49 U.S.C. 3102(6).” There is no section 3102 of title 49. The regulations should have given the section as 30102(6), where a definition of “motor vehicle” is contained in title 49.

Similarly, the earlier regulations, at 28 CFR 25.53(f)(2), provided that the fee calculation should be “based on the Highway Statistics Program of the Federal Highway Administration, U.S. Department of Transportation,” but indicated that those statistics reported titled vehicles by state. Those statistics report registered vehicles (not titled vehicles) by state. This direct-final rule would correct this description of what information is reported by those statistics, so as to avoid any confusion and reflect that which was intended in the 2009 regulations.

III. Regulatory Requirements

Executive Order 12866 and 13563—Regulatory Planning and Review

This rule, which involves the minor correction of an existing regulation, has been drafted and reviewed in accordance with Executive Order 12866, “Regulatory Planning and Review” section 1(b), Principles of Regulation and in accordance with Executive Order 13563 “Improving Regulation and Regulatory Review” section 1(b) General Principles of Regulation. OJP has determined that this regulation is not a “significant regulatory action” under Executive Order No. 12866.

Cost/Benefit Assessment

Both Executive Orders 12866 and 13563 direct agencies to assess all costs and benefits of available regulatory alternatives and, if regulation is necessary, to select regulatory approaches that maximize net benefits (including potential economic, environmental, public health and safety effects, distributive impacts, and equity).

Executive Order 13563 emphasizes the importance of quantifying both costs and benefits, of reducing costs, of harmonizing rules, and of promoting flexibility. This regulation has no cost to state, local, or tribal governments, or to the private sector. It merely clarifies two provisions in the current regulations that clearly are in error and creates no new obligations.

Administrative Procedure Act

BJA's implementation of this rule as a direct-final rule, with provision for post-promulgation public comment, is based on findings of good cause pursuant to the Administrative Procedure Act (5 U.S.C. 553(b)(3)(B)). This minor rule amendment merely makes two technical corrections to the current regulations. BJA believes that the rule is noncontroversial and adverse comments will not be received, although comments on this rule are invited. Accordingly, BJA finds that “good cause” exists under 5 U.S.C. 553(b)(3)(B) to make this rule effective 90 days after publication in the Federal Register, unless an adverse comment is received within the comment period.

Executive Order 13132—Federalism

This rule, which involves the minor correction of an existing regulation, will not have a substantial direct effect on the states, on the relationship between the national government and the states, or on distribution of power and responsibilities among the various levels of government. Therefore, in accordance with Executive Order No. 13132, 64 FR 43255 (Aug. 4, 1999), it is determined that this regulation does not have sufficient federalism implications to warrant the preparation of a Federalism Assessment.

Executive Order 12988—Civil Justice Reform

This rule, which involves the minor correction of an existing regulation, meets the applicable standards set forth in sections 3(a) & (b)(2) of Executive Order No. 12988. Pursuant to section 3(b)(1)(I) of the Executive Order, nothing in this or any previous rule (or in any administrative policy, directive, ruling, notice, guideline, guidance, or writing) directly relating to the Program that is the subject of this rule is intended to create any legal or procedural rights enforceable against the United States, except as the same may be contained within part 25 of title 28 of the Code of Federal Regulations.

Regulatory Flexibility Act

This rule, which involves the minor correction of an existing regulation, will not have a significant economic impact on a substantial number of small entities. This rule has no new cost to State, local, or tribal governments, or to the private sector. Such costs as the NMVTIS program imposes exist by virtue of the regulations promulgated in 2009 pursuant to notice and comment, which contained an impact analysis. Therefore, an analysis of the impact of this regulation on such entities is not required under the Regulatory Flexibility Act (5 U.S.C. 601 et seq.).

Paperwork Reduction Act of 1995

This rule, which involves the minor correction of an existing regulation, contains no new information collection or record-keeping requirements under the Paperwork Reduction Act of 1995 (44 U.S.C. 3501, et seq.).

Unfunded Mandates Reform Act of 1995

This rule, which involves the minor correction of an existing regulation, will not result in the expenditure by State, local, and tribal governments, in the aggregate, or by the private sector, of $100,000,000 or more in any one year, and it will not significantly or uniquely affect small governments. Therefore, no actions were deemed necessary under the provisions of the Unfunded Mandates Reform Act of 1995.

List of Subjects in 28 CFR Part 25

Crime, Law enforcement, Motor vehicle safety, Motor vehicles, Reporting and recordkeeping requirements, Transportation.

Authority and Issuance

Accordingly, for the reasons set forth in the preamble, Title 28, Part 25, Subpart B of the Code of Federal Regulations is amended as follows:

PART 25—DEPARTMENT OF JUSTICE INFORMATION SYSTEMS

1. The authority citation for 28 CFR Part 25 continues to read as follows:

Authority: Public Law 103-159, 107 Stat. 1536, 49 U.S.C. 30501-30505; Public Law 101-410, 104 Stat. 890, as amended by Public Law 104-134, 110 Stat. 1321.

Subpart B—National Motor Vehicle Title Information System (NMVTIS)

§ 25.52 [Amended]

2. In § 25.52, in the definition of Motor vehicle, remove “3102(6)” and add in its place “30102(6)”.

§ 25.53 [Amended]

3. Section 25.53(f)(2) is amended by removing “titled” and by adding in its place “registered”.

Dated: March 21, 2012.
Mary Lou Leary,
Acting Assistant Attorney General.

[FR Doc. 2012-7473 Filed 3-28-12; 8:45 am]

BILLING CODE 4410-18-P